DEPARTMENT OF ENERGY

Federal Energy Regulatory Commission

Notice of Commission Staff Attendance

The Federal Energy Regulatory Commission hereby gives notice that members of the Commission's staff may attend the following meetings related to the transmission planning activities of ISO New England Inc.:

Order 1000: NEPOOL Transmission Committee

October 17, 2011, 1 p.m.-4 p.m., Local Time.

December 1, 2011, 1 p.m.-4 p.m., Local Time.

The above-referenced meetings will be held at: DoubleTree by Hilton Hotel, 5400 Computer Drive, Westborough, Massachusetts 01581.

The above-referenced meetings are open to stakeholders.

Further information may be found at http://www.iso-ne.com.

The discussions at the meetings described above may address matters at issue in the following proceedings:

Docket No. ER11-4021, ISO New England Inc., Northeast Utilities Service Company.

Docket No. ER11-4022, ISO New England Inc., Northeast Utilities Service Company.

Docket No. ER11-4023, ISO New England Inc., Northeast Utilities Service Company.

Docket No. ER11-49, National Grid Transmission Services Corporation.

For more information, contact William Lohrman, Office of Energy Market Regulation, Federal Energy Regulatory Commission at (202) 502-8070 or william.lohrman@ferc.gov.

Dated: October 11, 2011.
Kimberly D. Bose,
Secretary.

[FR Doc. 2011-26845 Filed 10-17-11; 8:45 am]

BILLING CODE 6717-01-P